DEPARTMENT OF HEALTH AND HUMAN SERVICES

Administration for Children and Families

Proposed Information Collection Activity; Comment Request

Proposed Projects: Reporting and Recordkeeping.

Title: Case Plan Requirement, Section 422, 471(a)(16) and 475(5)(A)(B) of the Social Security Act.

OMB No. 0980-0140.

Description: Under section 471(a) of Title IV-E of the Social Security Act (the Act), to be eligible to receive Title IV-E Federal financial assistance payments, states must develop a case plan (as defined in section 475(1)) for each child receiving foster care maintenance payments. Section 471(a) (16) states that in order for a state to be eligible for payments under this part, there must be a state plan, approved by the Secretary of the U.S. Department of Health and Human Services, which provides for the development of a case plan for each child receiving foster care assistance under the state plan and provides for a case review system which meets the requirements described in section 475(5)(B) with respect to each child. Through these requirements, states also comply, in part, with Title IV-B, section 422(b)(10) of the Act, which assures certain protections for children in foster care.

Respondents: State Title IV-B and Title IV-E Agencies

Annual Burden Estimates

Instrument | Number of respondents | Number of responses per respondent | Average burden hours per response | Total burden hours
Case Plan | 701,461 | 1 | 2.60 | 1,823,799

Estimated Total Annual Burden Hours: 1,823,799.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 7, 2004.
Robert Sargis,
Reports Clearance Officer.

[FR Doc. 04-8338 Filed 4-12-04; 8:45 am]

BILLING CODE 4184-01-M